DEPARTMENT OF COMMERCE

International Trade Administration

United States Investment Advisory Council; Solicitation of Applications

AGENCY: SelectUSA, International Trade Administration, U.S. Department of Commerce.

ACTION: Notice of an opportunity to apply for membership on the United States Investment Advisory Council.

SUMMARY: The Department of Commerce is currently seeking applications for membership on the United States Investment Advisory Council. The purpose of the Board is to advise the Secretary of Commerce on strategies to attract and retain foreign direct investment to the United States.

DATES: Applications for immediate consideration for membership must be received by the Office of SelectUSA by 5:00 p.m. Eastern Daylight Time (EDT) on Friday, June 30, 2021. The International Trade Administration (ITA) will continue to accept applications under this notice for two years from the deadline to fill any vacancies.

ADDRESSES: Please submit application information by email to IAC@trade.gov.

FOR FURTHER INFORMATION CONTACT: Rachel David, SelectUSA, U.S. Department of Commerce; telephone: (202) 302-6858; email: IAC@trade.gov.

SUPPLEMENTARY INFORMATION: The United States Investment Advisory Council (IAC) is established in accordance with the provisions of the Federal Advisory Committee Act, as amended, 5 U.S.C. App., to advise the Secretary of Commerce (Secretary) on matters relating to the promotion and retention of foreign direct investment in the United States (FDI).

SelectUSA is accepting applications for membership on the IAC. The IAC functions solely as an advisory committee. The IAC shall advise the Secretary on U.S. government policies and programs that affect FDI; identify and recommend programs and policies to help the United States attract and retain FDI; and recommend ways to support the position of the United States as the world's preeminent destination for FDI. The IAC shall act as a liaison among the stakeholders represented by the membership and shall provide a forum for the stakeholders on current and emerging issues regarding FDI. The IAC shall report to the Secretary on its activities and recommendations regarding FDI. In creating its reports, the IAC should survey and evaluate the investment and investment-facilitating activities of stakeholders, should identify and examine specific problems facing potential foreign investors, and should examine the needs of stakeholders to inform the IAC's efforts. The IAC should recommend specific solutions to the problems and needs that it identifies.

The IAC shall consist of no more than twenty members appointed by the Secretary. Members shall represent companies and organizations investing, seeking to invest, seeking foreign investors, or facilitating investment across many sectors, including but not limited to:

U.S.-incorporated companies that are majority-owned by foreign companies or by a foreign individual or individuals, or that generate significant foreign direct investment (e.g., through their supply chains); U.S. companies or entities whose business includes FDI-related activities or the facilitation of FDI; and Economic development organizations and other U.S. governmental and non-governmental organizations and associations whose missions or activities include the promotion or facilitation of FDI.

Members shall be selected based on their ability to carry out the objectives of the IAC, in accordance with applicable Department of Commerce guidelines, in a manner that ensures that the IAC is balanced in terms of points of view, demographics, industry subsector, geography of the source and the destination of the FDI, and company size. Members shall represent a broad range of products and services and shall be drawn from large, medium, and small enterprises, private-sector organizations involved in investment, and other investment-related entities including non-governmental organizations, associations, and economic development organizations.

Priority may be given to executives (Chief Executive Officer, Executive Chairman, President, or comparable level of responsibility).

Members shall serve in a representative capacity, representing the views and interests of their sponsoring entity and those of their particular sector (if applicable). Members are not special government employees and will receive no compensation for their participation in IAC activities. Members will not be reimbursed for travel expenses related to IAC activities. Appointments to the IAC shall be made without regard to political affiliation. Because the IAC will advise the Secretary on U.S. international competitiveness in attracting and retaining FDI, each member must be a U.S. national.

Each member shall be appointed for a term of two years and will serve at the pleasure of the Secretary. The Secretary may at his/her discretion reappoint any member to an additional term or terms, provided that the member proves to work effectively on the IAC and that his/her knowledge and advice is still needed.

The Secretary shall designate a Chair and Vice Chair from among the members.

The IAC will meet a minimum of two times a year with, to the extent practical, additional meetings called at the discretion of the Secretary or his/her designee. Meetings will be held in Washington, DC or elsewhere in the United States, or by teleconference, as feasible. Members are expected to attend a majority of IAC meetings.

To be considered for membership, submit the following information by 5:00 p.m. EDT on June 30, 2021 to the email address listed in the ADDRESSES section:

1. Name and title of the individual requesting consideration.

2. A sponsor letter from the applicant on the sponsoring entity's letterhead containing a brief statement of why the applicant should be considered for membership on the IAC. This sponsor letter should also address the applicant's experience and leadership related to foreign direct investment.

3. The applicant's personal resume and short bio (less than 300 words).

4. An affirmative statement that the applicant meets all eligibility criteria, including an affirmative statement that the applicant is not required to register as a foreign agent under the Foreign Agents Registration Act of 1938, as amended.

5. Information regarding the ownership and control of the sponsoring entity, including the stock holdings as appropriate.

6. The sponsoring entity's size, place of incorporation, product or service line, major markets in which the entity operates, and the entity's export or import experience.

7. A profile of the entity's foreign direct investment activities, including investment activities, investment plans, investment-facilitation activities, or other foreign direct investment activities.

8. Brief statement describing how the applicant will contribute to the work of the IAC based on his or her unique experience and perspective (not to exceed 100 words).

9. All relevant contact information, including mailing address, fax, email, phone number, and support staff information where relevant.

Bill Burwell,
Deputy Executive Director, Select USA.

[FR Doc. 2021-10358 Filed 5-14-21; 8:45 am]

BILLING CODE 3510-DR-P